DEPARTMENT OF ENERGY

[EERE-2022-BT-STD-0026]

Appliance Standards and Rulemaking Federal Advisory Committee: Notice of Open Meetings of the Commercial Unitary Air Conditioner and Commercial Unitary Heat Pump Working Group

AGENCY: Office of Energy Efficiency and Renewable Energy, U.S. Department of Energy.

ACTION: Notice of open meetings.

SUMMARY: The U.S. Department of Energy (DOE or the Department) announces two additional open meetings of the Commercial Unitary Air Conditioner and Commercial Unitary Heat Pump (CUAC and CUHP) working group. The Federal Advisory Committee Act (FACA) requires that agencies publish notice of an advisory committee meeting in the Federal Register.

DATES: December 7, 2022, from 10:00 a.m. to 5:00 p.m. via webinar; December 8, 2022, from 9:00 a.m. to 3:00 p.m. via webinar.

ADDRESSES: Meetings will be held virtually via Webex. See the Public Participation section of this notice for webinar registration information, participant instructions, and information about the capabilities available to webinar participants, or visit the committee's website at: https://www.energy.gov/eere/buildings/appliance-standards-and-rulemaking-federal-advisory-committee.

FOR FURTHER INFORMATION CONTACT: Mr. Lucas Aiden, U.S. Department of Energy, Office of Building Technologies (EE-5B), 950 L'Enfant Plaza SW, Washington, DC 20024. Telephone: (202) 287-5904. Email: asrac@ee.doe.gov.

SUPPLEMENTARY INFORMATION: On July 21, 2022, the Appliance Standards and Rulemaking Federal Advisory Committee (ASRAC) met and passed the recommendation to form a CUAC and CUHP working group to meet and discuss and, if possible, reach a consensus on proposed Federal test procedures and energy conservation standards for CUACs and CUHPs. On July 29, 2022, DOE published a notice of intent to establish a working group for CUACs and CUHPs to negotiate a notice of proposed rulemaking for test procedures and energy conservations standards. 87 FR 45703. On October 7, 2022, DOE published a notice announcing open meetings for the CUAC and CUHP working group. 87 FR 60942. This notice maintains that list of meetings and announces an additional two meetings in early December.

Purpose of Meetings: To provide advice and recommendations to ASRAC on test procedures and energy conservation standards for CUAC and CUHP equipment under the authority of the Negotiated Rulemaking Act (5 U.S.C. 561-570, Pub. L. 104-320).

Public Participation: Open meetings will be held via webinar on: Wednesday, December 7, 2022, from 10 a.m. to 5 p.m. EDT; and Thursday, December 8, 2022, from 9 a.m. to 3 p.m. EDT. To attend the webinars and/or to make oral statements regarding any of the items on the agenda, email asrac@ee.doe.gov. In the email, please indicate your name, organization (if appropriate), citizenship, and contact information. The webinar will be held using the Webex software platform and participants are responsible for ensuring their systems are compatible with the webinar software. Webinar registration information, participant instructions, and information about the capabilities available to webinar participants will be published on DOE's website: https://www.energy.gov/eere/buildings/appliance-standards-and-rulemaking-federal-advisory-committee.

Please note that foreign nationals participating in the webinar are subject to advance security screening procedures which require advance notice prior to attendance at the webinar. If a foreign national wishes to participate in the webinar, please inform DOE as soon as possible by contacting Ms. Regina Washington at (202) 586-1214 or by email: Regina.Washington@ee.doe.gov so that the necessary procedures can be completed.

Members of the public will be heard in the order in which they sign up for the Public Comment Period. Time allotted per speaker will depend on the number of individuals who wish to speak but will not exceed five minutes. Reasonable provision will be made to include the scheduled oral statements on the agenda. A third-party neutral facilitator will make every effort to allow the presentations of views of all interested parties and to facilitate the orderly conduct of business.

Participation in the meetings is not a prerequisite for submission of written comments. Written comments are welcome from all interested parties. Any comments submitted must identify the CUAC and CUHP Working Group, and provide docket number EERE-2022-BT-STD-0015. Comments may be submitted using any of the following methods:

1. Federal eRulemaking Portal: www.regulations.gov. Follow the instructions for submitting comments.

2. Email: CommPkgACHP2022STDandTP0015@ee.doe.gov. Include docket number EERE-2022-BT-STD-0015 in the subject line of the message.

3. Postal Mail: Appliance and Equipment Standards Program, U.S. Department of Energy, Building Technologies Program, Mailstop EE-5B, 1000 Independence Avenue SW, Washington, DC 20585-0121. If possible, please submit all items on a compact disc (“CD”), in which case it is not necessary to include printed copies.

4. Hand Delivery/Courier: Appliance and Equipment Standards Program, U.S. Department of Energy, Building Technologies Program, 950 L'Enfant Plaza SW, 6th Floor, Washington, DC 20024. Telephone: (202) 287-1445. If possible, please submit all items on a CD, in which case it is not necessary to include printed copies.

No telefacsimiles (faxes) will be accepted.

Docket: The docket, which includes Federal Register notices, public meeting attendee lists and transcripts, comments, and other supporting documents/materials is available for review at www.regulations.gov. All documents in the docket are listed in the www.regulations.gov index. However, some documents listed in the index, such as those containing information that is exempt from public disclosure, may not be publicly available.

The docket web page can be found at www.regulations.gov/docket/EERE-2022-BT-STD-0015. The docket web page contains instructions on how to access all documents, including public comments, in the docket.

Approval of the Office of the Secretary

The Secretary of Energy has approved publication of notice of open meetings.

Signing Authority

This document of the Department of Energy was signed on November 22, 2022, by Francisco Alejandro Moreno, Acting Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on November 28, 2022.
Treena V. Garrett,
Federal Register Liaison Officer, U.S. Department of Energy.

[FR Doc. 2022-26239 Filed 12-1-22; 8:45 am]

BILLING CODE 6450-01-P